DEPARTMENT OF HOMELAND SECURITY

Coast Guard

33 CFR Part 165

[COTP Los Angeles-Long Beach 03-002]

RIN 1625-AA00

Safety Zone; Offshore Marine Terminal, El Segundo, CA

AGENCY: Coast Guard, DHS.

ACTION: Notice of proposed rulemaking.

SUMMARY: The Coast Guard proposes to establish a safety zone surrounding the El Segundo offshore marine terminal near Los Angeles, California. This action is necessary to ensure public safety and reduce the likelihood of a collision or explosion involving a tank vessel moored at the offshore marine terminal. Entry into this zone will be prohibited unless specifically authorized by the Captain of the Port Los Angeles-Long Beach.

DATES: Comments and related material must reach the Coast Guard on or before September 8, 2003.

ADDRESSES: You may mail comments and related material to U.S. Coast Guard Marine Safety Office/Group Los Angeles-Long Beach, Waterways Management Division, 1001 South Seaside Avenue, Building 20, San Pedro, California, 90731. The Waterways Management Division maintains the public docket for this rulemaking. Comments and material received from the public, as well as documents indicated in this preamble as being available in the docket, will become part of this docket and will be available for inspection or copying at the Waterways Management Division between 8 a.m. and 4 p.m., Monday through Friday, except Federal holidays.

FOR FURTHER INFORMATION CONTACT: Lieutenant Junior Grade Rob Griffiths, Assistant Chief of Waterways Management Division, at (310) 732-2020.

SUPPLEMENTARY INFORMATION:

Request for Comments

We encourage you to participate in this rulemaking by submitting comments and related material. If you do so, please include your name and address, identify the docket number for this rulemaking (COTP Los Angeles-Long Beach 03-002), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Waterways Management at the address under ADDRESSES explaining why one would be beneficial. If we determine that one would aid this rulemaking, we will hold one at a time and place announced by a later notice in the Federal Register.

Background and Purpose

ChevronTexaco Shipping Company has requested that the Coast Guard establish a safety zone around the El Segundo offshore marine terminal near Los Angeles, California, to promote the safety of life and property at the facility and on the adjacent waters within the safety zone including tank vessels and their crews, their apparatuses, attending vessels and their crews.

El Segundo offshore marine terminal is located approximately one nautical mile offshore El Segundo in Santa Monica Bay, between Marina Del Rey and Redondo Beach, California. The offshore marine terminal consists of several tanker mooring buoys and seafloor pipelines connected to the mainland terminal. Large tank vessels are secured to tanker mooring buoys using multiple sets of mooring lines. Underwater pipelines that extend seaward from the mainland terminal rise up from the ocean bottom and are secured to both the buoys and the tankers. As a result, there are numerous mooring lines, pipelines, and other critical apparatuses that exist above, below, and on the surface of the water presenting an especially hazardous condition for other vessels transiting through this area. These conditions are present at all times, whether or not a tanker is in the offshore marine terminal.

Discussion of Proposed Rule

This proposed safety zone will prohibit all but explicitly authorized vessels from entering and navigating through the waters of El Segundo offshore marine terminal near Los Angeles, California. Specifically, no vessel may enter or navigate through the proposed safety zone except tank vessels using the terminal area and the related pipeline for loading or unloading operations, commercial tugs, lighters, barges, launches, or other commercial vessels engaged in servicing the terminal facilities or the tank vessels therein, or public vessels of the United States. This proposed safety zone is necessary to provide for the safety of the tank vessels and their crew as well as the people, ports, waterways, and properties located nearby. The Ports and Waterways Safety Act (PWSA), as set forth in 33 U.S.C. 1221, et seq., allows the Coast Guard to take actions to ensure the safety of vessels and structures on or in the navigable waters of the United States. The Act also allows for regulations that protect navigable waters of the United States and the resources therein.

This proposed safety zone is defined as the waters of Santa Monica Bay, from surface to bottom, enclosed by lines forming a rectangle around the El Segundo offshore marine terminal. The coordinates of the proposed safety zone are set forth in the regulatory text and are based on the North American Datum of 1983 (NAD 1983).

Vessels or persons violating proposed § 165.1156 would be subject to the penalties set forth in section 13 of the PWSA (33 U.S.C. 1232). Pursuant to 33 U.S.C. 1232, any violation of the proposed regulation establishing the safety zone described herein would be punishable by civil penalties (not to exceed $27,500 per violation, where each day of a continuing violation is a separate violation), criminal penalties (imprisonment up to 6 years and a maximum fine of $250,000), and in rem liability against the offending vessel. Any person who violates this proposed section using a dangerous weapon or who engages in conduct that causes bodily injury or fear of imminent bodily injury to any officer authorized to enforce this regulation, also would face imprisonment up to 12 years. Under 46 U.S.C. 7703(1)(A), a master's license would be subject to revocation or suspension for violation of this proposed amendment to 33 CFR part 165. The Captain of the Port will enforce this proposed zone and may be assisted by other Federal, State, or local agencies.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under of the regulatory policies and procedures of DHS is unnecessary.

This proposed safety zone will encompass only a small portion of the waterway and vessel traffic can pass safely around the affected area. In addition, vessels may be allowed to enter this zone on a case-by-case basis with permission of the Captain of the Port.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. We expect this rule will affect the following entities, some of which may be small entities: the owners and operators of private and commercial vessels intending to transit or anchor in Santa Monica Bay near El Segundo. The impact to these entities would not, however, be significant since this zone encompasses a small portion of the waterway and vessels may safely pass around the affected area. In addition, vessels may be allowed to enter this zone on a case-by-case basis with permission of the Captain of the Port.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Junior Grade Rob Griffiths, Assistant Chief, Waterways Management Division, (310) 732-2020.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this proposed rule under Commandant Instruction M16475.1D, which guides the Coast Guard in complying with the National Environmental Policy Act of 1969 (NEPA)(46 U.S.C. 4321-4370f), and have concluded that, there are no factors in this case which would limit the use of a categorical exclusion under section 2.B.2 of the Instruction. Therefore, this rule is categorically excluded, under figure 2-1, paragraph (34)(g), of the instruction from further environmental documentation because we are proposing to establish a safety zone.

A draft “Environmental Analysis Check List” and a draft “Categorical Exclusion Determination” are available in the docket where indicated under ADDRESSES. Comments on this section will be considered before we make a final decision on whether the rule should be categorically excluded from further environmental review.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. Add § 165.1156 to read as follows:

§ 165.1156 Safety Zone; Offshore Marine Terminal, El Segundo, CA.

(a) Location. The following area is a safety zone: All waters of Santa Monica Bay, from surface to bottom, enclosed by a line beginning at latitude 33°54′59″ N, longitude 118°26′50″ W; then to latitude 33°54′59″ N, longitude 118°27′34″ W; then to latitude 33°54′00″ N, longitude 118°27′34″ W; then to latitude 33°54′00″ N, longitude 118°26′50″ W; then to the point of beginning (NAD 1983).

(b) Regulations. (1) In accordance with the general regulations in § 165.23 of this part, entry into or movement within this zone is prohibited except for:

(i) Commercial vessels authorized to use the offshore marine terminal for loading or unloading;

(ii) Commercial tugs, lighters, barges, launches, or other vessels authorized to engage in servicing the offshore marine terminal or vessels therein;

(iii) Public vessels of the United States.

(2) Persons desiring to transit the area of the safety zone may contact the Captain of the Port at telephone number 1-800-221-8724 or on VHF-FM channel 16 (156.8 MHz). If permission is granted, all persons and vessels must comply with the instructions of the Captain of the Port or his or her designated representative.

(3) Nothing in this section shall be construed as relieving the owner or person in charge of any vessel from complying with the Navigation Rules as defined in 33 CFR Chapter I, subchapters D and E and safe navigation practice.

Dated: June 30, 2003.
John M. Holmes,
Captain, U.S. Coast Guard, Captain of the Port, Los Angeles-Long Beach.

[FR Doc. 03-17461 Filed 7-9-03; 8:45 am]

BILLING CODE 4910-15-P